DEPARTMENT OF COMMERCE

National Oceanic and Atmospheric Administration

Evaluation of Grand Bay National Estuarine Research Reserve; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a public meeting to solicit input on the performance evaluation of the Grand Bay National Estuarine Research Reserve. NOAA also invites the public to submit written comments.

DATES: NOAA will consider all written comments received by Friday, September 29, 2023. A hybrid (virtual and in-person) public meeting will be held on Wednesday, September 20, 2023, from noon to 1 p.m. Central Daylight Time (CDT). NOAA may close the meeting 10 minutes after the conclusion of public testimony and after responding to any clarifying questions from participants.

ADDRESSES: Comments may be submitted by one of the following methods:

Public Meeting: Provide oral comments during the virtual and in-person public meeting on Wednesday, September 20, 2023, from noon to 1 p.m. CDT. Both in-person and virtual participants should register if they wish to provide public comment. Virtual participants must register in order to receive an emailed link to the public meeting. The lineup of speakers will be based on the date and time of registration. As time allows, public comment will then be opened to all participants.

• For virtual participation, register as an attendee or speaker at https://forms.gle/tCXQoVBVGVCZrWpB7 by Tuesday, September 19, 2023, at 7 p.m. CDT. Upon registration, a confirmation email will be sent. The lineup of speakers will be based on the date and time of registration. Two hours prior to the start of the meeting on Wednesday, September 20, 2023, registrants will be emailed a link to join the public meeting and information about participating. Members of the public may also register to attend the meeting virtually as a non-speaker. If, after registering online, virtual registrants opt to participate in person, they can do so by following the in-person participation direction.

• For in-person participation, you may attend the public meeting onsite on Wednesday, September 20, 2023, noon to 1 p.m. CDT at the Grand Bay Reserve, 6005 Bayou Heron Road, Moss Point, MS 39562. Advance registration to attend onsite is not required. Sign-in registration for providing public comment in-person will be available at the meeting venue.

Email: Carrie Hall, Evaluator, NOAA Office for Coastal Management, at czma.evaluations@noaa.gov. Include “Comments on Performance Evaluation of the Grand Bay Research Reserve” in the subject line of the message.

NOAA will accept anonymous comments; however, the written comments NOAA receives are considered part of the public record, and the entirety of the comment, including the name of the commenter, email address, attachments, and other supporting materials, will be publicly accessible. Sensitive personally identifiable information, such as account numbers and social security numbers, should not be included with the comment. Comments that are not related to the performance evaluation of the Grand Bay Research Reserve, or that contain profanity, vulgarity, threats, or other inappropriate language will not be considered.

FOR FURTHER INFORMATION CONTACT: Carrie Hall, Evaluator, NOAA Office for Coastal Management, by email at Carrie.Hall@noaa.gov or by phone at (240) 410-3422. Copies of the previous evaluation findings, reserve management plan, and reserve site profile may be viewed and downloaded at https://coast.noaa.gov/czm/evaluations/. A copy of the evaluation notification letter and most recent progress report may be obtained upon request by contacting Carrie Hall.

SUPPLEMENTARY INFORMATION: Section and 315(f) of the Coastal Zone Management Act (CZMA) requires NOAA to conduct periodic evaluations of federally approved national estuarine research reserves. The evaluation process includes holding one or more public meetings, considering public comments, and consulting with interested Federal, State, and local agencies and members of the public. During the evaluation, NOAA will consider the extent to which the State of Mississippi has met the national objectives, adhered to the reserve's management plan approved by the Secretary of Commerce, and adhered to the terms of financial assistance under the CZMA. When the evaluation is complete, NOAA's Office for Coastal Management will place a notice in the Federal Register announcing the availability of the final evaluation findings.

Authority: 16 U.S.C. 1461.

Keelin Kuipers,
Deputy Director, Office for Coastal Management, National Ocean Service, National Oceanic and Atmospheric Administration.

[FR Doc. 2023-16410 Filed 8-1-23; 8:45 am]

BILLING CODE 3510-JE-P